DEPARTMENT OF TRANSPORTATION

Federal Aviation Administration

14 CFR Part 71

[Docket No. FAA-2005-20551; Airspace Docket No. 04-AWP-8]

RIN 2120-AA66

Amendment to Proposed Revision of VOR Federal Airway 363, CA

AGENCY: Federal Aviation Administration (FAA), DOT.

ACTION: Notice of proposed rulemaking (NPRM); correction.

SUMMARY: This action corrects an error in the airspace description of a notice of proposed rulemaking that was published in the Federal Register on March 14, 2005 (70 FR 12428), Airspace Docket No. 04-AWP-08.

DATES: Comments must be received on or before July 11, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On March 14, 2005, Airspace Docket No. 04-AWP-8, was published in the Federal Register (70 FR 12428), revising VOR Federal Airway 363 (V-363), CA. In that NPRM, the airspace description was incomplete. This action corrects that error.

Correction to NPRM

Accordingly, pursuant to the authority delegated to me, the legal description for V-363, as published in the Federal Register on March 14, 2005 (70 FR 12428), on page 12428 and incorporated by reference in 14 CFR 71.1, is corrected as follows:

PART 71—DESIGNATION OF CLASS A, B, C, D, AND E AIRSPACE AREAS; AIR TRAFFIC SERVICE ROUTES; AND REPORTING POINTS

§ 71.1 [Amended]

Paragraph 6010—Federal Airways.

* * * * *

V-363 [Corrected]

From Mission Bay, CA; INT Mission Bay, CA, 326°(M)/341°(T) and Santa Catalina, CA, 088°(M)/103°(T) radials; to INT Santa Catalina, CA, 088°(M)/103°(T) and Mission Bay, CA, 312°(M)/327°(T) radials; to INT Mission Bay, CA, 312°(M)/327°(T) and El Toro, CA, 158°(M)/172°(T) radials; to El Toro, CA; to INT El Toro, CA, 325°(M)/339°(T) and Pomona, CA,164°(M)/179°(T) radials; to Pomona, CA.

* * * * *

Issued in Washington, DC, on May 19, 2005.
Edith V. Parish,
Acting Manager, Airspace and Rules.

[FR Doc. 05-10414 Filed 5-24-05; 8:45 am]

BILLING CODE 4910-13-P